NUCLEAR REGULATORY COMMISSION

[Docket Nos. 50-335 and 50-389]

Florida Power and Light Co., et al.; Individual Notice, Applications and Amendments to Facility Operating Licenses Involving No Significant Hazards Consideration; Correction

AGENCY: Nuclear Regulatory Commission.

ACTION: Individual notice; correction.

SUMMARY: This document corrects a notice appearing in the Federal Register on January 28, 2003 (68 FR 4244), that contained an incorrect No Significant Hazards Consideration. This action is necessary to correct the No Significant Hazards Consideration.

FOR FURTHER INFORMATION CONTACT: Brendan T. Moroney, Project Manager, Office of Nuclear Reactor Regulation, U.S. Nuclear Regulatory Commission, Washington, DC 20555-0001; telephone (301) 415-3974, e-mail: btm3@nrc.gov.

SUPPLEMENTARY INFORMATION: The No Significant Hazards Consideration in the January 28, 2003, individual notice should be replaced in its entirety with the No Significant Hazards Consideration for the same amendment that was included in the Biweekly Notice of Applications and Amendments to Operating Licenses Involving No Significant Hazards Consideration published on December 10, 2002 (67 FR 75881).

Dated in Rockville, Maryland, this 25th day of March, 2003.
For the Nuclear Regulatory Commission.
Brendan T. Moroney,
Project Manager, Section 2, Project Directorate II, Division of Licensing Project Management, Office of Nuclear Reactor Regulation.

[FR Doc. 03-7628 Filed 3-28-03; 8:45 am]

BILLING CODE 7590-01-P